DEPARTMENT OF TRANSPORTATION

Office of the Secretary

Application of Partner Aviation Enterprises D/B/A Empire Airways for Commuter Air Carrier Authorization

AGENCY: Office of the Secretary, Department of Transportation.

ACTION: Notice of Order to Show Cause (Order 2006-8-21); Docket OST-2006-24223.

SUMMARY: The Department of Transportation is directing all interested persons to show cause why it should not issue an order finding Partner Aviation Enterprises d/b/a Empire Airways fit, willing, and able, and awarding it a commuter air carrier authorization to engage in scheduled passenger air transportation as a commuter air carrier.

DATES: Persons wishing to file objections should do so no later than September 5, 2006.

ADDRESSES: Objections and answers to objections should be filed in Docket OST-2006-24223 and addressed to U.S. Department of Transportation, Docket Operations, (M-30, Room PL-401), 400 Seventh Street, SW., Washington, DC 20590, and should be served upon the parties listed in Attachment A to the order.

FOR FURTHER INFORMATION CONTACT: Lauralyn J. Remo, Air Carrier Fitness Division (X-56, Room 6401), U.S. Department of Transportation, 400 Seventh Street, SW., Washington, DC 20590, (202) 366-9721.

Dated: August 22, 2006.
Michael W. Reynolds,
Acting Assistant Secretary for Aviation and International Affairs.

[FR Doc. E6-14330 Filed 8-28-06; 8:45 am]

BILLING CODE 4910-9X-P